DEPARTMENT OF DEFENSE

Office of the Secretary

Department of Defense Wage Committee (DoDWC); Notice of Federal Advisory Committee Meetings

AGENCY: Under Secretary of Defense for Personnel and Readiness, Department of Defense (DoD).

ACTION: Notice of closed Federal advisory committee meetings.

SUMMARY: The DoD is publishing this notice to announce that the following Federal Advisory Committee meetings of the DoDWC will take place.

DATES:

Tuesday, September 5, 2023, from 10:00 a.m. to 10:30 a.m. and will be closed to the public.

Tuesday, September 19, 2023, from 10:00 a.m. to 11:30 a.m. and will be closed to the public.

Tuesday, October 3, 2023, from 10:00 a.m. to 11:30 a.m. and will be closed to the public.

Tuesday, October 17, 2023, from 10:00 a.m. to 12:30 p.m. and will be closed to the public.

Tuesday, October 31, 2023, from 10:00 a.m. to 11:00 a.m. and will be closed to the public.

Tuesday, November 14, 2023, from 10:00 a.m. to 12:30 p.m. and will be closed to the public.

Tuesday, November 28, 2023 from 10:00 a.m. to 11:00 a.m. and will be closed to the public.

ADDRESSES: The closed meetings will be held by teleconference.

FOR FURTHER INFORMATION CONTACT: Mr. Karl Fendt, (571) 372-1618 (voice), karl.h.fendt.civ@mail.mil (email), 4800 Mark Center Drive, Suite 05G21, Alexandria, Virginia 22350 (mailing address). Any agenda updates can be found at the DoDWC's official website: https://wageandsalary.dcpas.osd.mil/BWN/DODWC/.

SUPPLEMENTARY INFORMATION: These meetings are being held under the provisions of chapter 10 of title 5, United States Code (U.S.C.) (commonly known as the “Federal Advisory Committee Act” or “FACA”), 5 U.S.C. 552b (commonly known as the “Government in the Sunshine Act”), and 41 CFR 102-3.140 and 102-3.150.

Due to circumstances beyond the control of the Department of Defense and the Designated Federal Officer, the Department of Defense Wage Committee was unable to provide public notification required by 41 CFR 102-3.150(a) concerning its September 5, 2023 meeting. Accordingly, the Advisory Committee Management Officer for the Department of Defense, pursuant to 41 CFR 102-3.150(b), waives the 15-calendar day notification requirement.

Due to circumstances beyond the control of the Department of Defense and the Designated Federal Officer, the Department of Defense Wage Committee was unable to provide public notification required by 41 CFR 102-3.150(a) concerning its September 19, 2023 meeting. Accordingly, the Advisory Committee Management Officer for the Department of Defense, pursuant to 41 CFR 102-3.150(b), waives the 15-calendar day notification requirement.

Purpose of the Meeting: The purpose of these meetings is to provide independent advice and recommendations on matters relating to the conduct of wage surveys and the establishment of wage schedules for all appropriated fund and non-appropriated fund areas of blue-collar employees within the DoD.

Agendas

September 5, 2023

Opening Remarks by Chair and Designated Federal Officer (DFO).

Reviewing survey results and/or survey specifications for the following Appropriated Fund areas:

1. Any items needing further clarification or action from the previous agenda.

2. Wage Schedule (Full Scale) for the Boise, Idaho wage area (AC-045).

3. Any items needing further clarification from this agenda may be discussed during future scheduled meetings.

Closing Remarks by Chair.

September 19, 2023

Opening Remarks by Chair and DFO.

Reviewing survey results and/or survey specifications for the following Nonappropriated Fund areas:

1. Any items needing further clarification or action from the previous agenda.

2. Wage Schedule (Full Scale) for the Burlington, New Jersey wage area (AC-071).

3. Wage Schedule (Full Scale) for the Kent, Delaware wage area (AC-076).

4. Wage Schedule (Full Scale) for the Richmond-Chesterfield, Virginia wage area (AC-082).

5. Wage Schedule (Full Scale) for the Morris, New Jersey wage area (AC-090).

6. Wage Schedule (Wage Change) for the Frederick, Maryland wage area (AC-088).

7. Wage Schedule (Wage Change) for the Washington, District of Columbia wage area (AC-124).

8. Wage Schedule (Wage Change) for the Alexandria-Arlington-Fairfax, Virginia wage area (AC-125).

9. Wage Schedule (Wage Change) for the Prince William, Virginia wage area (AC-126).

10. Wage Schedule (Wage Change) for the Prince George's-Montgomery, Maryland wage area (AC-127).

11. Wage Schedule (Wage Change) for the Charles-St. Mary's, Maryland wage area (AC-128).

12. Wage Schedule (Wage Change) for the Anne Arundel, Maryland wage area (AC-147).

Reviewing survey results and/or survey specifications for the following Appropriated Fund areas:

13. Wage Schedule (Full Scale) for the Utah wage area (AC-139).

14. Wage Schedule (Full Scale) for the Spokane, Washington wage area (AC-145).

15. Wage Schedule (Full Scale) for the Puerto Rico wage area (AC-151).

16. Wage Schedule (Wage Change) for the Alaska wage area (AC-007).

17. Wage Schedule (Wage Change) for the Montana wage area (AC-083).

18. Wage Schedule (Wage Change) for the Charleston, South Carolina wage area (AC-119).

19. Special Pay—Puerto Rico Special Rates.

20. Any items needing further clarification from this agenda may be discussed during future scheduled meetings.

Closing Remarks by Chair.

October 3, 2023

Opening Remarks by Chair and DFO.

Reviewing survey results and/or survey specifications for the following Nonappropriated Fund areas:

1. Any items needing further clarification or action from the previous agenda.

2. Survey Specifications for the Onslow, North Carolina wage area (AC-097).

3. Survey Specifications for the Shelby, Tennessee wage area (AC-098).

4. Survey Specifications for the Christian, Kentucky/Montgomery Tennessee wage area (AC-099).

5. Survey Specifications for the Charleston, South Carolina wage area (AC-120).

6. Survey Specifications for the San Juan-Guaynabo, Puerto Rico wage area (AC-155).

Reviewing survey results and/or survey specifications for the following Appropriated Fund areas:

7. Wage Schedule (Full Scale) for the Dothan, Alabama wage area (AC-003).

8. Wage Schedule (Full Scale) for the Washington, District of Columbia wage area (AC-027).

9. Wage Schedule (Full Scale) for the Columbus, Georgia wage area (AC-040).

10. Wage Schedule (Full Scale) for the Charlotte, North Carolina wage area (AC-100).

11. Wage Schedule (Full Scale) for the Oklahoma City, Oklahoma wage area (AC-109).

12. Wage Schedule (Full Scale) for the Pittsburgh, Pennsylvania wage area (AC-116).

13. Wage Schedule (Wage Change) for the Cedar Rapids-Iowa City, Iowa wage area (AC-052).

14. Wage Schedule (Wage Change) for the Portland, Oregon wage area (AC-112).

15. Wage Schedule (Wage Change) for the Wichita Falls, Texas-Southwestern Oklahoma wage area (AC-138).

16. Wage Schedule (Wage Change) for the Madison, Wisconsin wage area (AC-147).

17. Special Pay—Portland, Oregon Special Rates.

18. Special Pay—Missouri River Power Rate (D800).

19. Any items needing further clarification from this agenda may be discussed during future scheduled meetings.

Closing Remarks by Chair.

October 17, 2023

Opening Remarks by Chair and DFO.

Reviewing survey results and/or survey specifications for the following Nonappropriated Fund areas:

1. Any items needing further clarification or action from the previous agenda.

2. Wage Schedule (Full Scale) for the Monterey, California wage area (AC-003).

3. Wage Schedule (Full Scale) for the Kern, California wage area (AC-010).

4. Wage Schedule (Full Scale) for the San Diego, California wage area (AC-054).

5. Wage Schedule (Full Scale) for the Solano, California wage area (AC-059).

6. Wage Schedule (Wage Change) for the Los Angeles, California wage area (AC-130).

7. Wage Schedule (Wage Change) for the Orange, California wage area (AC-131).

8. Wage Schedule (Wage Change) for the Ventura, California wage area (AC-132).

9. Wage Schedule (Wage Change) for the Riverside, California wage area (AC-133).

10. Wage Schedule (Wage Change) for the San Bernardino, California wage area (AC-134).

11. Wage Schedule (Wage Change) for the Santa Barbara, California wage area (AC-135).

12. Wage Schedule (Wage Change) for the Guam wage area (AC-150).

Reviewing survey results and/or survey specifications for the following Appropriated Fund areas:

13. Wage Schedule (Full Scale) for the Albany, Georgia wage area (AC-036).

14. Wage Schedule (Full Scale) for the Northwestern Michigan wage area (AC-071).

15. Wage Schedule (Full Scale) for the Tulsa, Oklahoma wage area (AC-111).

16. Wage Schedule (Full Scale) for the Scranton-Wilkes Barre, Pennsylvania wage area (AC-117).

17. Wage Schedule (Wage Change) for the Little Rock, Arkansas wage area (AC-011).

18. Wage Schedule (Wage Change) for the Boston, Massachusetts wage area (AC-068).

19. Survey Specifications for the Birmingham, Alabama wage area (AC-002).

20. Survey Specifications for the Southern Colorado wage area (AC-023).

21. Survey Specifications for the Hagerstown-Martinsburg-Chambersburg, Maryland wage area (AC-067).

22. Survey Specifications for the Dayton, Ohio wage area (AC-107).

23. Survey Specifications for the Harrisburg, Pennsylvania wage area (AC-114).

24. Survey Specifications for the Wyoming wage area (AC-150).

25. Special Pay—Boston, Massachusetts Special Rates.

26. Special Pay—Little Rock, Arkansas Special Rates.

27. Any items needing further clarification from this agenda may be discussed during future scheduled meetings.

Closing Remarks by Chair.

October 31, 2023

Opening Remarks by Chair and DFO.

Reviewing survey results and/or survey specifications for the following Nonappropriated Fund areas:

1. Any items needing further clarification or action from the previous agenda.

2. Survey Specifications for the Oklahoma, Oklahoma wage area (AC-052).

3. Survey Specifications for the Harrison, Mississippi wage area (AC-070).

4. Survey Specifications for the Hardin-Jefferson, Kentucky wage area (AC-096).

5. Survey Specifications for the Wayne, North Carolina wage area (AC-107).

6. Survey Specifications for the Cumberland, North Carolina wage area (AC-108).

7. Survey Specifications for the Richland, South Carolina wage area (AC-110).

8. Survey Specifications for the Wichita, Texas wage area (AC-122).

9. Survey Specifications for the Comanche, Oklahoma wage area (AC-123).

10. Survey Specifications for the Craven, North Carolina wage area (AC-164).

Reviewing survey results and/or survey specifications for the following Appropriated Fund areas:

11. Survey Specifications for the New York, New York wage area (AC-094).

12. Any items needing further clarification from this agenda may be discussed during future scheduled meetings.

Closing Remarks by Chair.

November 14, 2023

Opening Remarks by Chair and DFO.

Reviewing survey results and/or survey specifications for the following Appropriated Fund areas:

1. Any items needing further clarification or action from the previous agenda.

2. Wage Schedule (Full Scale) for the San Diego, California wage area (AC-017).

3. Wage Schedule (Full Scale) for the San Francisco, California wage area (AC-018).

4. Wage Schedule (Full Scale) for the Pensacola, Florida wage area (AC-034).

5. Wage Schedule (Full Scale) for the Central Illinois wage area (AC-046).

6. Wage Schedule (Full Scale) for the Des Moines, Iowa wage area (AC-054).

7. Wage Schedule (Full Scale) for the Baltimore, Maryland wage area (AC-066).

8. Wage Schedule (Full Scale) for the Buffalo, New York wage area (AC-092).

9. Wage Schedule (Wage Change) for the Los Angeles, California wage area (AC-013).

10. Wage Schedule (Wage Change) for the San Bernardino-Riverside-Ontario, California wage area (AC-016).

11. Wage Schedule (Wage Change) for the Santa Barbara, California wage area (AC-019).

12. Wage Schedule (Wage Change) for the New London, Connecticut wage area (AC-025).

13. Wage Schedule (Wage Change) for the Panama City, Florida wage area (AC-033).

14. Wage Schedule (Wage Change) for the Chicago, Illinois wage area (AC-047).

15. Wage Schedule (Wage Change) for the Las Vegas, Nevada wage area (AC-085).

16. Wage Schedule (Wage Change) for the Portsmouth, New Hampshire wage area (AC-087).

17. Wage Schedule (Wage Change) for the Seattle-Everett-Tacoma, Washington wage area (AC-143).

18. Survey Specifications for the Salinas-Monterey, California wage area (AC-015).

19. Survey Specifications for the Rochester, New York wage area (AC-096).

20. Special Pay—San Diego, California Special Rates.

21. Special Pay—Los Angeles, California Special Rates.

22. Special Pay—New London, Connecticut Special Rates.

23. Special Pay—Southwest Power Rate.

24. Special Pay—North Central Power Rate.

25. Any items needing further clarification from this agenda may be discussed during future scheduled meetings.

Closing Remarks by Chair.

November 28, 2023

Opening Remarks by Chair and DFO.

Reviewing survey results and/or survey specifications for the following Nonappropriated Fund areas:

1. Any items needing further clarification or action from the previous agenda.

2. Wage Schedule (Full Scale) for the Hampden, Massachusetts wage area (AC-039).

3. Wage Schedule (Full Scale) for the Middlesex, Massachusetts wage area (AC-138).

4. Wage Schedule (Full Scale) for the York, Maine wage area (AC-139).

5. Wage Schedule (Wage Change) for the Maricopa, Arizona wage area (AC-012).

6. Wage Schedule (Wage Change) for the Pima, Arizona wage area (AC-013).

7. Wage Schedule (Wage Change) for the Yuma, Arizona wage area (AC-055).

8. Wage Schedule (Wage Change) for the Kings-Queens, New York wage area (AC-091).

Reviewing survey results and/or survey specifications for the following Appropriated Fund areas:

9. Survey Specifications for the Lexington, Kentucky wage area (AC-058).

10. Survey Specifications for the Northern Mississippi wage area (AC-077).

11. Survey Specifications for the Memphis, Tennessee wage area (AC-124).

12. Survey Specifications for the Nashville, Tennessee wage area (AC-125).

13. Any items needing further clarification from this agenda may be discussed during future scheduled meetings.

Closing Remarks by Chair.

Meeting Accessibility: Pursuant to 5 U.S.C. 552b(c)(4), the DoD has determined that the meetings shall be closed to the public. The Under Secretary of Defense for Personnel and Readiness, in consultation with the DoD Office of General Counsel, has determined in writing that each of these meetings is likely to disclose trade secrets and commercial or financial information obtained from a person and privileged or confidential.

Written Statements: Pursuant to 5 U.S.C. 1009(a)(3) and 41 CFR 102-3.140, interested persons may submit written statements to the DFO for the DoDWC at any time. Written statements should be submitted to the DFO at the email or mailing address listed in the FOR FURTHER INFORMATION CONTACT section. If statements pertain to a specific topic being discussed at a planned meeting, then these statements must be submitted no later than five (5) business days prior to the meeting in question. Written statements received after this date may not be provided to or considered by the DoDWC until its next meeting. The DFO will review all timely submitted written statements and provide copies to all the committee members before the meeting that is the subject of this notice.

Dated: September 6, 2023.
Aaron T. Siegel,
Alternate OSD Federal Register Liaison Officer, Department of Defense.

[FR Doc. 2023-19856 Filed 9-13-23; 8:45 am]

BILLING CODE 5001-06-P